DEPARTMENT OF ENERGY

Federal Energy Regulatory Commission

[Project No. 4632-033]

Commissioners of Public Works of the City of Spartanburg, SC; Notice of Application for Surrender of License and Soliciting Comments, Motions To Intervene, and Protests

Take notice that the following application has been filed with the Commission and is available for public inspection:

a. Application Type: Surrender of License.

b. Project No.: 4632-033.

c. Date Filed: November 30, 2010 and supplemented on May 19, 2011.

d. Applicant: Commissioners of Public Works of the City of Spartanburg, South Carolina.

e. Name of Project: Clifton Mills #1 Hydroelectric Project.

f. Location: On the Pacolet River, in Spartanburg County, South Carolina.

g. Filed Pursuant to: Federal Power Act, 16 U.S.C. 791a-825r.

h. Applicant Contact: Ken Tuck, Director of Water Treatment, Spartanburg Water, 200 Commerce Street, P.O. Box 251, Spartanburg, SC 29304, (864) 580-5642, e-mail ktuck@spartanburgwater.org and Elizabeth W. Whittle, Nixon Peabody, LLP, 401 Ninth Street, NW., Suite 900, Washington, DC 20004, (202) 585-8338, e-mail: ewhittle@nixonpeabody.com.

i. FERC Contact: Jake Tung, (202) 502-8757, e-mail at hong.tung@ferc.gov.

j. Deadline for filing comments, motions to intervene, and protest: July 6, 2011.

Comments, motions to intervene, and protests may be filed electronically via the Internet. See 18 CFR 385.2001(a)(1)(iii) and the instructions on the Commission's Web site under the “eFiling” link. If unable to be filed electronically, documents may be paper-filed. To paper-file, an original and seven copies should be mailed to: Kimberly D. Bose, Secretary, Federal Energy Regulatory Commission, 888 First Street, NE., Washington, DC 20426. For more information on how to submit these types of filings, please go to the Commission's Web site located at http://www.ferc.gov/filing-comments.asp.

k. Description of Request: The applicant proposes to surrender the license for the Clifton Mills #1 Hydroelectric Project and in addition, proposes to: (1) Install fences around the powerhouse to prevent entry, (2) remove the three tainter gates, (3) plug the penstocks with cement at the intake and forebay and abandon in place, and (4) transfer the regulation of the dam to the State of South Carolina after Commission approval of the surrender.

l. Locations of the Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via email of new filings and issuances related to this or other pending projects. For assistance, call 1-866-208-3676 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—All filings must bear in all capital letters the title “COMMENTS”, “PROTEST”, or “MOTION TO INTERVENE”, as applicable, and the Project Number of the particular application to which the filing refers.

p. Agency Comments: Federal, state, and local agencies are invited to file comments on the described application. A copy of the application may be obtained by agencies directly from the Applicant. If an agency does not file comments within the time specified for filing comments, it will be presumed to have no comments. One copy of an agency's comments must also be sent to the Applicant's representatives.

Dated: June 6, 2011.
Kimberly D. Bose,
Secretary.

[FR Doc. 2011-14507 Filed 6-10-11; 8:45 am]

BILLING CODE 6717-01-P